NATIONAL AERONAUTICS AND SPACE ADMINISTRATION

Notice of Information Collection

AGENCY: National Aeronautics and Space Administration (NASA).

NOTICE: (13-062).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Ms. Frances Teel, JF000, National Aeronautics and Space Administration, Washington, DC 20546-0001.

FOR FURTHER INFORMATION CONTACT: Requests for additional information or copies of the information collection instrument(s) and instructions should be directed to Frances Teel, NASA Clearance Officer, NASA Headquarters, 300 E Street SW., JF000, Washington, DC 20546, Frances.C.Teel@nasa.gov.

SUPPLEMENTARY INFORMATION:

I. Abstract

This collection of information supports both the White House initiative to create opportunities to advance science, technology, engineering, and mathematics (STEM) education, and the President's Council of Advisors on Science and Technology (PCAST) Engage to Excel goals to improve STEM education during the first two years of college. The Department of Commerce estimates that STEM occupations will grow 1.7 times faster than non-STEM occupations between 2008-2018. As demographics in the U.S. continue to shift towards a more diverse populous, there is a need to attract underserved and underrepresented students to STEM degree fields. Traditionally, underrepresented groups in STEM include females, African-American, Hispanics, Native Americans, Pacific Islanders (natives of the Philippines, Guam, American Samoa, or Micronesia), and disabled students.

The NASA Glenn Research Center (GRC) Shadowing and Exploring Project is a career exploration initiative targeting students in the 14-20 age group. It connects classroom training to tangible activities that enable practical application of STEM disciplines, and cultivates innovative thinking. The program is designed to increase awareness of STEM career paths and encourage both the pursuit and retention of STEM majors during the initial years of college. The program incorporates GRC scientists, engineers, technicians, and administrative professionals to serve as mentors to participating students. The NASA Glenn Research Center Shadowing and Exploring Project Participation is voluntary and registration is required to participate.

II. Method of Collection

Electronic and Paper.

III. Data

Title: NASA GRC Shadowing and Exploring.

OMB Number: 2700-XXXX.

Type of review: Existing Collection without OMB Approval.

Affected Public: Individuals.

Estimated Number of Respondents: 500.

Estimated Time per Response: 0.5 hours.

Estimated Total Annual Burden Hours: 250.

Estimated Total Annual Cost: $39,552.51.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Frances Teel,
NASA PRA Clearance Officer.

[FR Doc. 2013-12906 Filed 5-30-13; 8:45 am]

BILLING CODE 7510-13-P